DEPARTMENT OF HOMELAND SECURITY

Critical Infrastructure Partnership Advisory Council (CIPAC); Correction.

AGENCY: National Protection and Programs Directorate, DHS.

ACTION: Committee Management; Notice of an open Federal Advisory Committee Meeting; Corrections.

SUMMARY: The National Protection and Programs Directorate published a document in the Federal Register of September 19, 2013, concerning the Critical Infrastructure Partnership Advisory Council (CIPAC) Plenary Meeting on November 5, 2013. The document contained incorrect dates in two locations described below.

FOR FURTHER INFORMATION CONTACT: Renee Murphy, Critical Infrastructure Partnership Advisory Council Alternate Designated Federal Officer, telephone (703) 235-3999.

Correction

In the Federal Register of September 19, 2013, in FR Vol. 78, No. 182, on page 57644, in the second column, correct the ADDRESSES caption to read:

Written comments are welcome at any time prior to or following the meeting. Written comments may be sent to Renee Murphy, Department of Homeland Security, National Protection and Programs Directorate, 245 Murray Lane, SW., Mail Stop 0607, Arlington, VA 20598-0607. For consideration in the CIPAC deliberations, written comments must be received by Renee Murphy by no later than 12:00PM on November 4, 2013, identified by Federal Register Docket Number DHS-2013-0050 and may be submitted by one of the following methods:

Correction

In the Federal Register of September 19, 2013, in FR Vol. 78, No. 182, on page 57644, in the third column, correct the SUPPLEMENTARY INFORMATION caption to read:

CIPAC represents a partnership between the Federal Government and critical infrastructure owners and operators, and provides a forum in which they can engage in a broad spectrum of activities to support and coordinate critical infrastructure security and resilience. The November 5, 2013, meeting will include topic-specific discussions focused on partnership efforts to enhance critical infrastructure resilience. Topics, such as Critical Infrastructure Security and Resilience and Cybersecurity, will be discussed.

Dated: October 28, 2013.
Larry May,
Designated Federal Officer for the CIPAC.

[FR Doc. 2013-26246 Filed 11-1-13; 8:45 am]

BILLING CODE 4410-10-P